DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 16, 2017. Address written comments to Statutory Import Programs Staff, Room 3720, U.S. Department of Commerce, Washington, DC 20230. Applications may be examined between 8:30 a.m. and 5:00 p.m. at the U.S. Department of Commerce in Room 3720.

Docket Number: 17-009. Applicant: UChicago Argonne, 9700 South Cass Avenue, Lemont, IL 60439-4873. Instrument: Electron Beams Position Processors. Manufacturer: Instrumentation Technologies, Slovenia. Intended Use: The instrument will be used to measure the precise position of the Advanced Photon Source (APS) storage ring electron beam with resolution of 50 to 100 nanometers from DC to 1000 kHz. It can also turn by turn position to the 1 micrometer level for fast 271 kHz (the turn by turn rate) beam position measurement, without which the required vertical beam stability of 400 nm will not be met. The instrument also has a daisy chain capability to accumulate and send all data from several bpm processors to the fast-orbit-feedback processor, without which data cannot be sent at 32 bpms to the local fast-orbit feedback processors at the same time. Justification for Duty-Free Entry: There are no instruments of the same general category manufactured in the United States. Application accepted by Commissioner of Customs: May 4, 2017.

Docket Number: 17-010. Applicant: New Mexico Institute of Mining and Technology, 801 Leroy Place, Socorro, NM 87801. Instrument: DelayLine Trolley #2 (DLT2). Manufacturer: University of Cambridge/Cavendish Lab, United Kingdom. Intended Use: The instrument will be flexure-mounted and voice-coil actuated on a motorized wheeled carriage inside each delay line pipe of the Magdalena Ridge Observatory Interferometer. The instrument's unique specifications include a wavelength of operation that covers both the visible and near infrared, between 600 nm and 2400 nm, and a limiting group-delay tracking limiting magnitude of H=14 to allow observations of extragalactic targets while tracking on the science object rather than a nearby reference star. Justification for Duty-Free Entry: There are no instruments of the same general category manufactured in the United States. Application accepted by Commissioner of Customs: May 1, 2017.

Docket Number: 17-011. Applicant: William Marsh Rice University, 6100 Main St., Houston, TX 77005. Instrument: 3D Laser Lithography System. Manufacturer: Nanoscribe GmbH, Germany. Intended Use: The instrument will be used to prepare materials for investigations of the mechanical, optical, electronic, and thermal properties of substrates for cell culture growth to better understand cancer propagation and tumors, mechanical trusses with nanoscale structure to create and study light, strong composite materials and metal structures to understand and control optical properties of materials in new ways. The distinctive feature of the instrument is its computer control integrated with both sample-stage motion in three dimensions with nano-resolution, and longer-distance scanning mirror technology to cover large (hundreds of microns) distances quickly. Justification for Duty-Free Entry: There are no instruments of the same general category manufactured in the United States. Application accepted by Commissioner of Customs: May 8, 2017.

Docket Number: 17-012. Applicant: Lawrence Berkeley National Laboratory, One Cyclotron Road, M/S 971-PROC, Berkeley, CA 94720. Instrument: Custom undulator magnetic system mfg'd. to LBNL spec. for an accelerator research facility; (1) 1st article & (21) production units. Manufacturer: Vacuumschmelze GmbH & Co. KG, Germany. Intended Use: The instrument will be used as a core component of a free-electron-laser which produces x-rays for scientific discovery. To reach sufficiently high magnetic field values (1.3 Tesla) the instrument requires magnets with maximum field energy and poles with the highest saturation fields. Justification for Duty-Free Entry: There are no instruments of the same general category manufactured in the United States. Application accepted by Commissioner of Customs: May 26, 2017.

Docket Number: 17-013. Applicant: William March Rice University, 6100 Main St., Houston, TX 77005. Instrument: Professional Lab-Device electrospraying/electrospinning Unit V2.0. Manufacturer: Yflow Nanotechnology Solutions, Spain. Intended Use: The instrument will be used to prepare samples and materials for experiments. The electrospinning and electrospraying capabilities of this instrument will allow studies of the mechanical, biodegradation, optical, architectural, drug elution, biocompatibility, and cell metabolism among other such properties as materials for basic science and engineering research. The instrument is unique in its capabilities to control climate, jet diameter, micro-droplet production, fibered core-shell capsule production, core-shell capsules, and co/multi-axial designs. Justification for Duty-Free Entry: There are no instruments of the same general category manufactured in the United States. Application accepted by Commissioner of Customs: May 23, 2017.

Dated: July 24, 2017.
Gregory W. Campbell,
Director, Subsidies Enforcement, Enforcement and Compliance.

[FR Doc. 2017-15851 Filed 7-26-17; 8:45 am]

BILLING CODE 3510-DS-P